FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 24, 2013.

A. Federal Reserve Bank of Dallas (E. Ann Worthy, Vice President) 2200 North Pearl Street, Dallas, Texas 75201-2272:

1. William E. Dorroh, Shreveport, Louisiana, individually and as trustee for the Stephanie D. O'Dowd Family Trust; Catherine B. Dorroh, Houston, Texas; Walter E. Dorroh, Jr., Mary Elizabeth Dorroh, both of Jena, Louisiana; Tjaden O'Dowd Cox, Mobile, Alabama; John Michael O'Dowd, Jr., Tuscaloosa, Alabama; and John Michael O'Dowd, Sr., Mobile, Alabama, individually and as trustee for the George W. O'Dowd Trust and the Stephanie D. O'Dowd Family Trust, to acquire voting shares of Mansfield Bancshares, Inc., and thereby indirectly acquire voting shares of Community Bank of Louisiana, both in Mansfield, Louisiana.

B. Federal Reserve Bank of San Francisco (Gerald C. Tsai, Director, Applications and Enforcement) 101 Market Street, San Francisco, California 94105-1579:

1. Alex Meruelo, Newport, California; to acquire voting shares of NCAL Bancorp, and thereby indirectly acquire voting shares of National Bank of California, both in Los Angeles, California.

Board of Governors of the Federal Reserve System, October 4, 2013.
Robert deV. Frierson,
Secretary of the Board.

[FR Doc. 2013-24405 Filed 10-8-13; 8:45 am]

BILLING CODE 6210-01-P